DEPARTMENT OF JUSTICE

[OMB Number 1121-0184]

Agency Information Collection Activities; Proposed eCollection eComments Requested; Revision of Existing Collection; School Crime Supplement (SCS) to the National Crime Victimization Survey (NCVS)

AGENCY: Bureau of Justice Statistics, Department of Justice.

ACTION: 30-day Notice.

SUMMARY: The Department of Justice (DOJ), Office of Justice Programs (OJP), Bureau of Justice Statistics (BJS) will submit the following information collection to the Office of Management and Budget (OMB) for review and approval in accordance with the Paperwork Reduction Act of 1995. The proposed information collection was previously published in the Federal Register Volume 79, Number 115, page 34358, on June 16, 2014, allowing a 60-day comment period.

DATES: Comments are encouraged and will be accepted for an additional “thirty days” until September 17, 2014.

FOR FURTHER INFORMATION CONTACT: If you have comments especially on the estimated public burden or associated response time, suggestions, or need a copy of the proposed information collection instrument with instructions or additional information, please contact Rachel Morgan, Statistician, Bureau of Justice Statistics, 810 Seventh St. NW., Washington, DC 20531 (email Rachel.Morgan@usdoj.gov; telephone 202-307-0765). Written comments and/or suggestions can also be directed to the Office of Management and Budget, Office of Information and Regulatory Affairs, Attention Department of Justice Desk Officer, Washington, DC 20530 or send to OIRA_submissions@omb.eop.gov.

SUPPLEMENTARY INFORMATION: Written comments and suggestions from the public and affected agencies concerning the proposed collection of information are encouraged. Your comments should address one or more of the following four points:

-Evaluate whether the collection of information is necessary for the proper performance of the functions of the Bureau of Justice Statistics, including whether the information will have practical utility;

-Evaluate the accuracy of the agency's estimate of the burden of the collection of information, including the validity of the methodology and assumptions use;

-Evaluate whether and if so how the quality, utility, and clarify of the information to be collected can be enhanced; and

-Minimize the burden of the collection of information on those who are to respond, including through the use of appropriate automated, electronic, mechanical, or other technological collection techniques or other forms of information technology, e.g. permitting electronic submission of responses.

Overview of This Information Collection

(1) Type of Information Collection: Revision of currently approved collection.

(2) Title of the Form/Collection: School Crime Supplement (SCS) to the National Crime Victimization Survey (NCVS).

(3) Agency form number: Forms: SCS-1. Bureau of Justice Statistics, Office of Justice Programs, United States Department of Justice.

(4) Affected public who will be asked to respond, as well as a brief abstract: Primary: The survey will be administered to persons ages 12 to 18 in NCVS sampled households in the United States. The School Crime Supplement (SCS) to the National Crime Victimization Survey (NCVS) collects, analyzes, publishes, and disseminates statistics on the students' victimization, perceptions of school environment, and safety at school.

(5) An estimate of the total number of respondents and the amount of time needed for an average respondent to respond: Approximately 14,461 respondents between the ages of 12 and 18 will be eligible to complete an SCS interview. This is an increase of 4,909 respondents from the 2013 SCS data collection. Based on the 2013 SCS data collection, we expect that the SCS will take no longer than about 17.5 minutes to administer. The majority of respondents will complete the long SCS interview (entire SCS questionnaire) which will take an estimated 0.292 hours (17.52 minutes) to complete. Based on the 2013 SCS data collection, we expect the completion rate to be 51.7% for the long interview. The remainder of the respondents will complete the short interview (i.e. will be screened out for not being in school), which will take an estimated 0.047 hours (2.83 minutes) to complete. We expect the completion rate to be 8.2% for the short interview. This will amount to a total increase in burden response of 760 hours (((4,909*0.517)*0.292) + ((4,909*0.082)*0.047))). Due to the changes in the 2015 SCS instrument, we anticipate a total decrease in burden of 89 hours. This is a net increase of 671 (760-89) hours in respondent burden compared to the 2013 submitted total respondent burden estimate of 1,773 hours. The total respondent burden is approximately 2,444 (1,773 + 671) hours.

(6) An estimate of the total public burden (in hours) associated with the collection: The total respondent burden is approximately 2,444 hours.

If additional information is required contact: Jerri Murray, Department Clearance Officer, United States Department of Justice, Justice Management Division, Policy and Planning Staff, Two Constitution Square, 145 N Street NE., Room 3E.405B, Washington, DC 20530.

Dated: August 12, 2014.
Jerri Murray,
Department Clearance Officer for PRA, U.S. Department of Justice.

[FR Doc. 2014-19442 Filed 8-15-14; 8:45 am]

BILLING CODE 4410-18-P